DEPARTMENT OF ENERGY

Federal Energy Regulatory Commission

Combined Notice of Filings #1

Take notice that the Commission received the following exempt wholesale generator filings:

Docket Numbers: EG17-99-000.

Applicants: Horse Hollow Wind III, LLC.

Description: Notice of Self-Certification of Exempt Wholesale Generator Status of Horse Hollow Wind III, LLC.

Filed Date: 4/19/17.

Accession Number: 20170419-5209.

Comments Due: 5 p.m. ET 5/10/17.

Docket Numbers: EG17-100-000.

Applicants: Post Wind, LLC.

Description: Notice of Self-Certification of Exempt Wholesale Generator Status of Post Wind, LLC.

Filed Date: 4/19/17.

Accession Number: 20170419-5210.

Comments Due: 5 p.m. ET 5/10/17.

Take notice that the Commission received the following electric rate filings:

Docket Numbers: ER17-1438-000.

Applicants: Radford's Run Wind Farm, LLC.

Description: Baseline eTariff Filing: Application for Market Based Rate to be effective 6/1/2017.

Filed Date: 4/20/17.

Accession Number: 20170420-5019.

Comments Due: 5 p.m. ET 5/11/17.

Docket Numbers: ER17-1439-000.

Applicants: Southwest Power Pool, Inc.

Description: § 205(d) Rate Filing: 3317 WAPA & East River Electric Power Interconnection Agr to be effective 4/3/2017.

Filed Date: 4/20/17.

Accession Number: 20170420-5094.

Comments Due: 5 p.m. ET 5/11/17.

Docket Numbers: ER17-1440-000.

Applicants: NorthWestern Corporation.

Description: Tariff Cancellation: Notice of Cancellation: SA 791, Utilities Agreement with MDT (Armington Slope) to be effective 4/21/2017.

Filed Date: 4/20/17.

Accession Number: 20170420-5098.

Comments Due: 5 p.m. ET 5/11/17.

Docket Numbers: ER17-1441-000.

Applicants: ISO New England Inc., New England Power Pool Participants Committee.

Description: § 205(d) Rate Filing: Changes to ISO-NE Financial Assurance Policy to be effective 9/12/2017.

Filed Date: 4/20/17.

Accession Number: 20170420-5106.

Comments Due: 5 p.m. ET 5/11/17.

Docket Numbers: ER17-1442-000.

Applicants: Axiall, LLC.

Description: Baseline eTariff Filing: Application for Market Based Rate to be effective 5/26/2017.

Filed Date: 4/20/17.

Accession Number: 20170420-5137.

Comments Due: 5 p.m. ET 5/11/17.

Docket Numbers: ER17-1443-000.

Applicants: Southwest Power Pool, Inc.

Description: § 205(d) Rate Filing: 2014 Southwestern Power Administration Amendatory Agreement Sixth Extension to be effective 4/1/2017.

Filed Date: 4/20/17.

Accession Number: 20170420-5140.

Comments Due: 5 p.m. ET 5/11/17.

Docket Numbers: ER17-1444-000.

Applicants: Midcontinent Independent System Operator, Inc.

Description: § 205(d) Rate Filing: 2017-04-20_Day-Ahead Margin Assurance Payment (DAMAP) filing to be effective 4/21/2017.

Filed Date: 4/20/17.

Accession Number: 20170420-5168.

Comments Due: 5 p.m. ET 5/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2017.
Kimberly D. Bose,
Secretary.

[FR Doc. 2017-08471 Filed 4-26-17; 8:45 am]

BILLING CODE 6717-01-P